SECURITIES AND EXCHANGE COMMISSION

[Release No. 34-81915; File No. SR-NYSEArca-2017-90]

Self-Regulatory Organizations; NYSE Arca, Inc.; Notice of Designation of a Longer Period for Commission Action on a Proposed Rule Change, as Modified by Amendment No. 1 Thereto, To List and Trade Shares of the Hartford Municipal Opportunities ETF Under NYSE Arca Rule 8.600-E

October 20, 2017.

On August 17, 2017, NYSE Arca, Inc. (“Exchange”) filed with the Securities and Exchange Commission (“Commission”), pursuant to Section 19(b)(1) of the Securities Exchange Act of 1934 (“Act”) ¹ and Rule 19b-4 thereunder,² a proposed rule change to list and trade shares of the Hartford Municipal Opportunities ETF under NYSE Arca Rule 8.600-E. The proposed rule change was published for comment in the Federal Register on September 6, 2017.³ On October 17, 2017, the Exchange filed Amendment No. 1 to the proposed rule change.⁴ The Commission has not received any comments on the proposed rule change.

¹ 15 U.S.C. 78s(b)(1).

² 17 CFR 240.19b-4.

³ See Securities Exchange Act Release No. 81505 (August 30, 2017), 82 FR 42147.

⁴ In Amendment No. 1, which amended and replaced the proposed rule change in its entirety, the Exchange, among other things, clarified that: (i) The list of municipal securities included in the section of the Notice entitled Hartford Municipal Opportunities ETF are the Municipal Securities in which the Fund may invest at least 80% of its net assets; (ii) redemption orders are not subject to acceptance by the distributor of the Fund; and (iii) the cut-off time for receipt of orders is 1 o'clock p.m. Amendment No. 1 also made non-substantive, technical amendments. Because Amendment No. 1 makes only clarifying and technical changes, and does not present unique or novel regulatory issues, it is not subject to notice and comment. Amendment No. 1 is available at: https://www.sec.gov/comments/sr-nysearca-2017-90/nysearca201790.htm.

Section 19(b)(2) of the Act ⁵ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be approved or disapproved. The 45th day after publication of the notice for this proposed rule change is October 21, 2017. The Commission is extending this 45-day time period.

⁵ 15 U.S.C. 78s(b)(2).

The Commission finds it appropriate to designate a longer period within which to take action on the proposed rule change so that it has sufficient time to consider this proposed rule change, as modified by the recently filed amendment. Accordingly, the Commission, pursuant to Section 19(b)(2) of the Act,⁶ designates December 5, 2017, as the date by which the Commission shall either approve or disapprove, or institute proceedings to determine whether to disapprove, the proposed rule change (File No. SR-NYSEArca-2017-90), as modified by Amendment No. 1.

⁶ Id.

For the Commission, by the Division of Trading and Markets, pursuant to delegated authority.⁷
Eduardo A. Aleman,
Assistant Secretary.

⁷ 17 CFR 200.30-3(a)(31).

[FR Doc. 2017-23265 Filed 10-25-17; 8:45 am]

BILLING CODE 8011-01-P